NUCLEAR REGULATORY COMMISSION

[Docket No. 50-443; NRC-2010-0206]

License Renewal Application for Seabrook Station, Unit 1 ; NextEra Energy Seabrook, LLC

AGENCY: Nuclear Regulatory Commission.

ACTION: License renewal application; intent to prepare supplement to draft supplemental environmental impact statement.

SUMMARY: On May 25, 2010, NextEra Energy Seabrook, LLC (NextEra), submitted to the U.S. Nuclear Regulatory Commission (NRC) an application for renewal of Facility Operating License NPF-86 for an additional 20 years of operation at Seabrook Station, Unit 1 (Seabrook). The current operating license for Seabrook expires on March 15, 2030. The purpose of this document is to inform the public that the NRC will be preparing a supplement to the draft Supplemental Environmental Impact Statement (SEIS) to address information related to severe accident mitigation alternatives (SAMA) analysis in accordance with the NRC's regulations.

ADDRESSES: Please refer to Docket ID NRC-2010-0206, when contacting the NRC about the availability of information regarding this document. You may access information related to this document, which the NRC possesses and is publicly available, using the following methods:

• Federal Rulemaking Web site: Go to http://www.regulations.gov and search for Docket ID NRC-2010-0206. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Mr. Michael Wentzel, Division of License Renewal, Office of Nuclear Reactor Regulation, U.S. Nuclear Regulatory Commission, Washington, DC 20555-0001; telephone: 301-415-6459; email: michael.wentzel@nrc.gov.

SUPPLEMENTARY INFORMATION:

Discussion

NextEra submitted an application for renewal of Facility Operating License NPF-86 for an additional 20 years of operation at Seabrook. Approximately 13 miles south of Portsmouth, New Hampshire, Seabrook is located in Rockingham County in Seabrook, New Hampshire.

The current operating license for Seabrook expires on March 15, 2030. The application for renewal, dated May 25, 2010, was submitted pursuant to Title 10 of the Code of Federal Regulations (10 CFR)—Part 54, and included an environmental report (ER).

On August 1, 2011, the NRC staff issued its draft SEIS, documenting its preliminary analysis and recommendation on the proposed action—renewal of the operating licenses for Seabrook. The draft SEIS is available in ADAMS under package Accession No. ML11213A080.

This document is being published in accordance with the National Environmental Policy Act and the NRC's regulations found at 10 CFR Part 51. The purpose of this document is to inform the public that the NRC will be preparing a supplement to the draft SEIS to address information relating to the SAMA analysis for Seabrook in accordance with the NRC's regulations found at 10 CFR 51.72.

Subsequent to the issuance of the draft SEIS, by letter dated March 19, 2012, NextEra notified the NRC of changes that were made to the SAMA analysis for Seabrook. The changes include changes to source term used in the analysis, as well as the identification of new, potentially cost-beneficial SAMAs. The letter from NextEra to the NRC is available in ADAMS under Accession No. ML12080A137.

In accordance with 10 CFR 51.53(c) and 10 CFR 54.23, NextEra submitted the ER as part of the application. The ER was prepared pursuant to 10 CFR Part 51 and is available in ADAMS under Accession Nos. ML101590092 and ML101590089.

In addition, the ER is available for public inspection at the Seabrook Library located at 25 Liberty Lane, Seabrook, NH 03874, and at the Amesbury Public Library located at 149 Main Street, Amesbury, MA 01913.

Dated at Rockville, Maryland, this 31st day of May 2012.
For the Nuclear Regulatory Commission.
David J. Wrona,
Chief, Projects Branch 2, Division of License Renewal, Office of Nuclear Reactor Regulation.

[FR Doc. 2012-14265 Filed 6-11-12; 8:45 am]

BILLING CODE 7590-01-P